DEPARTMENT OF ENERGY

Federal Energy Regulatory Commission

[Project No. 13330-001; Project No. 14403-000]

City of Quincy; FFP Project 110, LLC; Notice of Competing Preliminary Permit Applications Accepted for Filing and Soliciting Comments, Motions To Intervene, and Competing Applications

On May 1, 2012, City of Quincy and FFP Project 110, LLC filed preliminary permit applications pursuant to section 4(f) of the Federal Power Act proposing to study the feasibility of a hydropower project, to be located at the existing Mississippi River Lock and Dam No. 25 on the Mississippi River, near the city of Winfield in Lincoln County, Missouri and Calhoun County, Illinois. The City of Quincy's application is for a successive preliminary permit. Mississippi River Lock and Dam No. 25 is owned by the United States government and operated by the United States Army Corps of Engineers. The sole purpose of a preliminary permit, if issued, is to grant the permit holder priority to file a license application during the permit term. A preliminary permit does not authorize the permit holder to perform any land-disturbing activities or otherwise enter upon lands or waters owned by others without the owner's express permission.

City of Quincy's proposed project would consist of: (1) Forty new 500-kilowatt submersible low-head turbine-generator units, having a total combined generating capacity of 30 megawatts; (2) a new 878-foot-long concrete and steel control building structure immediately downstream of an existing dyke; (3) a new 3.1-mile-long, 34.5-kilovolt transmission line that would connect to the Missouri electric power grid, or a new 6.8-mile-long, 34.5-kilovolt transmission line that would connect to the Illinois electric power grid; and (4) appurtenant facilities. The project would have an estimated annual generation of 98.3 gigawatt-hours.

Applicant Contact: Mr. Charles Bevelheimer, 730 Maine Street, Quincy, IL 62301; (217) 228-4500.

FFP Project 110, LLC's proposed project would consist of: (1) Fourteen new 60-foot by 60-foot reinforced concrete powerhouses, each containing two 500-kilowatt bulb turbine-generators, having a total combined generating capacity of 14 megawatts; (2) fourteen existing submersible tainter gates; (3) a new 40-foot by 35-foot substation; (4) a new 10-foot by 60-foot intake structure; (5) a new 3-mile-long, 34.5-kilovolt transmission line; and (6) appurtenant facilities. The project would have an estimated annual generation of 56 gigawatt-hours.

Applicant Contact: Ms. Ramya Swaminathan, 239 Causeway Street, Suite 300, Boston, MA 02114; (978) 283-2822.

FERC Contact: Tyrone A. Williams, (202) 502-6331.

Deadline for filing comments, motions to intervene, and competing applications (without notices of intent) or notices of intent to file competing applications for Project No. 13330: 60 days from the issuance of this notice. We previously issued an acceptance notice for Project No. 14403 on May 21, 2012. That notice established a deadline of July 20, 2012 for filing comments, motions to intervene, and competing applications. The deadline for filing comments, motions to intervene, and competing applications, or notices of intent to file competing applications for Project No. 14403 is herewith extended to 60 days from the issuance of this notice to coincide with the deadline for Project No. 13330. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of either application can be viewed or printed on the “eLibrary” link of Commission's Web site at http://www.ferc.gov/docs-filing/elibrary.asp. Enter the docket number (P-13330 or P-14403) in the docket number field to access the document. For assistance, contact FERC Online Support.

Dated: July 10, 2012.
Kimberly D. Bose,
Secretary.

[FR Doc. 2012-17247 Filed 7-13-12; 8:45 am]

BILLING CODE 6717-01-P